DEPARTMENT OF LABOR

Office of the Secretary

Notice of Intent To Fund the International Labor Organization (ILO)

AGENCY: Bureau of International Labor Affairs, U.S. Department of Labor.

ACTION: Notice of Intent to award up to $2 million to the International Labor Organization (ILO) under the new cooperative agreement #E-9-K-5-0019.

SUMMARY: The U.S. Department of Labor (USDOL), Bureau of International Labor Affairs (ILAB), intends to fund up to U.S. $2 million to cooperative agreement #E-9-K-5-0019 with the International Labor Organization (ILO) for the International HIV/AIDS Workplace Education Program. The Conference Report of the FY 2005 Labor-HHS-Education appropriation states that “In implementing this agreement, the Departments and agencies should be guided by the language and instructions set forth in House Report 108-636 accompanying the bill H.R. 5006 and Senate Report 108-345 accompanying bill, S. 2810.”

The Conference Report likewise states that: “The Conference agreement includes $2,000,000 for the purpose of assisting the International Labor Organization in implementing a program to confront HIV/AIDS in the workplace.”

FOR FURTHER INFORMATION CONTACT: Lisa Harvey. E-mail address: harvey.lisa@dol.gov. All inquiries should make reference to the USDOL FY 2005 International HIV/AIDS Workplace Education Program.

SUPPLEMENTARY INFORMATION: The project funded will be a new grant that has the following three objectives:

• Education: To increase awareness and knowledge of HIV/AIDS by focusing on a comprehensive workplace education program(s) addressing behavior change, gender issues and linkages with care and support services.

• Policy: To improve workplace environment by assisting business and labor to develop appropriate workplace policy statements to address issues stemming from the stigma and discrimination associated with HIV/AIDS.

• Capacity: To develop the legislative framework, tripartite collaboration, and sustainability of the program by increasing the political will and capacity of social partners (government, business and labor) to respond to the epidemic.

Signed June 2, 2005.
Lisa Harvey,
Grants Officer, Office of Procurement Services.

[FR Doc. 05-11437 Filed 6-8-05; 8:45 am]

BILLING CODE 4510-28-P